DEPARTMENT OF HEALTH AND HUMAN SERVICES

National Committee on Vital and Health Statistics

AGENCY: Centers for Disease Control and Prevention, Department of Health and Human Services.

ACTION: Notice of meeting.

SUMMARY: Pursuant to the Federal Advisory Committee Act, the Department of Health and Human Services (HHS) announces the following advisory committee meeting. This meeting is open to the public. The public is welcome to attend in person or to obtain the link to attend this meeting by following the instructions posted on the Committee website: https://ncvhs.hhs.gov/meetings/full-committee-meeting-16/.

Name: National Committee on Vital and Health Statistics (NCVHS) Meeting.

DATES: Thursday, April 11, 2024: 9:15 a.m.-5:30 p.m. EDT and Friday, April 12, 2024: 8:30 a.m.-3:00 p.m. EDT.

ADDRESSES: In-person/hybrid (includes virtual attendance option).

FOR MORE INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION:

Purpose: As outlined in its Charter, the National Committee on Vital and Health Statistics assists and advises the Secretary of HHS on health data, data standards, statistics, privacy, national health information policy, and the Department's strategy to best address those issues. Under the Health Insurance Portability and Accountability Act of 1996 (HIPAA),¹ NCVHS advises the Secretary on administrative simplification standards, including those for privacy, security, adoption and implementation of transaction standards, unique identifiers, code sets, and operating rules adopted under the Patient Protection and Affordable Care Act (ACA).²

¹ Public Law 104-191, 110 Stat. 1936 (Aug 21, 1996), available at https://www.congress.gov/104/plaws/publ191/PLAW-104publ191.pdf.

² Public Law 111-148, 124 Stat.119, available at https://www.congress.gov/111/plaws/publ148/PLAW-111publ148.pdf.

The meeting agenda will include discussion of the 2024 workplan including the NCVHS Report to Congress, and briefings and discussions with invited experts on several health data policy topics, including: standards for SDOH data elements; possible implications of Value Based Care Models vs Fee-For-Service on HIPAA standards; an overview of the key elements of the Trusted Exchange Framework and Common Agreement (TEFCA) published by the Office of the National Coordinator for Health IT (ONC) in November 2023; and exploration of privacy and security in AI in technology and healthcare.

The NCVHS Workgroup on Timely and Strategic Action to Inform ICD-11 Policy for morbidity will report to the full Committee on Phase II of its work focusing on analysis of the recent Request for Information (RFI), published in October 2023.³

³ Federal Register Notice, October 16, 2023: https://www.federalregister.gov/documents/2023/10/16/2023-22753/national-committee-on-vital-and-health-statistics.

The Committee will reserve time on the agenda for public comment. Meeting times and topics are subject to change. Please refer to the agenda posted on the NCVHS website for updates: https://ncvhs.hhs.gov/meetings/full-committee-meeting-16/.

Sharon Arnold,
Associate Deputy Assistant Secretary, Office of Science and Data Policy, Office of the Assistant Secretary for Planning and Evaluation.

[FR Doc. 2024-05779 Filed 3-18-24; 8:45 am]

BILLING CODE 4150-05-P